Title 3—

The President

Presidential Permit of July 6, 2023

Authorizing the General Services Administration To Expand and Continue To Operate and Maintain a Vehicular and Pedestrian Border Crossing at the Calexico East Land Port of Entry to Mexico

By virtue of the authority vested in me as President of the United States of America (the “President”), I hereby grant permission, subject to the conditions set forth herein, to the General Services Administration (the “permittee”) to expand and continue to operate and maintain a vehicular and pedestrian crossing at the Calexico East Land Port of Entry to Mexico located on the United States border with Mexico in Calexico, California, as described in the “Application for Presidential Permit Calexico East Land Port of Entry” dated December 19, 2022 (“December 19, 2022, Application”), by the permittee to the Secretary of State in accordance with Executive Order 13867 and associated procedures.

The term “Facilities” as used in this permit means the portion in the United States of the bridge over the All-American Canal and crossing, including two additional commercial and two additional noncommercial lanes to be constructed at the Calexico East Land Port of Entry, and any land, structures, installations, or equipment appurtenant thereto located between the international boundary between the United States and Mexico and a line approximately 1,066 feet north of the international boundary.

This permit is subject to the following conditions:

Article 1. The Facilities herein described and all aspects of their operation are subject to all the conditions, provisions, and requirements of this permit and any subsequent Presidential amendment to it. The construction, operation, and maintenance of the Facilities shall be in all material respects as described in the December 19, 2022, Application.

Article 2. The standards for and the manner of construction, connection, operation, and maintenance of the Facilities are subject to inspection by the representatives of appropriate Federal, State, and local agencies. The permittee shall grant officers and employees of such agencies that are duly authorized and performing their official duties free and unrestricted access to said Facilities.

Article 3. The permittee shall comply with all applicable Federal laws and regulations regarding the construction, operation, and maintenance of the Facilities.

Article 4. The permittee shall immediately notify the President or his designee of any decision to transfer custody and control of the Facilities or any part thereof to any other agency or department of the United States Government. Said notice shall identify the transferee agency or department and seek the approval of the President for the transfer of the permit. In the event of approval by the President of such transfer, this permit shall remain in force and effect, and the Facilities shall be subject to all the conditions, permissions, and requirements of this permit and any amendments thereof. The permittee may transfer ownership or control of the Facilities to a non-Federal entity or individual only upon the prior express approval of such transfer by the President, which approval may include such conditions, permissions, and requirements that the President, in his discretion, determines are appropriate and necessary for inclusion in the permit, to be effective on the date of transfer.

Article 5. The permittee is responsible for acquiring and maintaining any right-of-way grants or easements, permits, and other authorizations as may become necessary or appropriate. To ensure the safe operation of the Facilities, the permittee shall maintain them and every part of them in a condition of good repair and in compliance with applicable law and use of best management practices.

Article 6. (1) The permittee shall take or cause to be taken all appropriate measures to mitigate adverse impacts on or disruption of the human environment in connection with the construction, operation, and maintenance of the Facilities. Mitigation measures are those that avoid, minimize, or compensate for adverse impacts.

The permittee is responsible for obtaining any required Federal, State, and local permits, approvals, and authorizations prior to commencing construction activities. The permittee shall implement the mitigation identified in any environmental decision documents prepared in accordance with the National Environmental Policy Act and Federal permits, including stormwater permits and permits issued in accordance with section 402 of the Clean Water Act (33 U.S.C. 1342). The permittee shall comply with applicable Federal, State, and local environmental laws.

(2) Before initiating construction, the permittee shall obtain the concurrence of the United States Section of the International Boundary and Water Commission, United States and Mexico.

Article 7. The permittee shall file any applicable statements and reports required by applicable Federal law in connection with the Facilities.

Article 8. Upon request, the permittee shall provide appropriate information to the President or his designee with regard to the Facilities. Such requests could include requests for information concerning current conditions, environmental compliance, mitigation, or anticipated changes in ownership or control, construction, connection, operation, or maintenance of the Facilities.

Article 9. The permittee shall not initiate construction until the Department of State has provided notification to the permittee that the Department has completed its exchange of diplomatic notes with the Government of Mexico regarding authorization. The permittee shall provide written notification to the President or his designee at the time that the construction authorized by this permit begins, at such time as such construction is completed, interrupted, or discontinued, and at other times as may be requested by the President.

Article 10. The permittee shall make no substantial change to the Facilities, in the location of the Facilities, or in the operation authorized by this permit unless such changes have been approved by the President. The President may terminate, revoke, or amend this permit at any time at his sole discretion. The permittee's obligation to implement any amendment to this permit is subject to the availability of funds. If the permittee permanently closes the Calexico East Land Port of Entry and it is no longer used as an international crossing, then this permit shall terminate, and the permittee may manage, utilize, or dispose of the Facilities in accordance with its statutory authorities. This permit shall continue in full force and effect for only so long as the permittee continues the operations hereby authorized. This permit shall expire 10 years from the date of its issuance if the permittee has not commenced construction of the Facilities by that date.

Article 11. This permit is not intended to, and does not, create any right or benefit, substantive or procedural, enforceable at law or in equity by any party against the United States, its departments, agencies, or entities, its officers, employees, or agents, or any other person.

IN WITNESS WHEREOF, I, JOSEPH R. BIDEN JR., President of the United States of America, have hereunto set my hand this sixth day of July, in the year of our Lord two thousand twenty-three, and of the Independence of the United States of America the two hundred and forty-eighth.

[FR Doc. 2023-14930

Filed 7-11-23; 11:15 am]

Billing code 3395-F3-P